ENVIRONMENTAL PROTECTION AGENCY

40 CFR Part 52

[EPA-R06-OAR-2006-0357; FRL-8761-5]

Approval and Promulgation of Air Quality Implementation Plans; Texas; Approval of the Section 110(a)(1) Maintenance Plan for the 1997 8-Hour Ozone Standard for El Paso County

AGENCY: Environmental Protection Agency (EPA).

ACTION: Proposed rule.

SUMMARY: EPA is proposing to approve a revision to the Texas State Implementation Plan (SIP). The revision consists of a maintenance plan for El Paso County developed to ensure continued attainment of the 8-hour ozone National Ambient Air Quality Standard (NAAQS) for 10 years after the effective designation date of June 15, 2004. The Maintenance Plan meets the requirements of Section 110(a)(1) of the Federal Clean Air Act (CAA), EPA's rules, and is consistent with EPA's guidance.

DATES: Written comments should be received on or before February 17, 2009.

ADDRESSES: Please see the related direct final rule, which is located in the “Rules and Regulations” section of this Federal Register, for detailed instructions on how to submit comments.

FOR FURTHER INFORMATION CONTACT: Jeffrey Riley, Air Planning Section (6PD-L), Environmental Protection Agency, Region 6, 1445 Ross Avenue, Suite 700, Dallas, Texas 75202-2733, telephone 214-665-8542; fax number 214-665-7263; e-mail address riley.jeffrey@epa.gov.

SUPPLEMENTARY INFORMATION:

I. Why Is EPA Issuing This Proposed Rule?

This document proposes to take action on SIP revisions pertaining to the El Paso area. We have published a direct final rule approving the State's SIP revisions in the “Rules and Regulations” section of this Federal Register because we view this as a noncontroversial action and anticipate no adverse comment. We have explained our reasons for this action in the preamble to the direct final rule.

If we receive no adverse comment, we will not take further action on this proposed rule. If we receive adverse comment, we will withdraw the direct final rule and it will not take effect. We would address all public comments in any subsequent final rule based upon this proposed rule.

We do not intend to institute a second comment period on this action. Any parties interested in commenting must do so at this time. For further information, please see the information provided in the ADDRESSES section of this document.

Dated: December 31, 2008.
Richard E. Greene,
Regional Administrator, Region 6.

[FR Doc. E9-707 Filed 1-14-09; 8:45 am]

BILLING CODE 6560-50-P